FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—02/23/2009
20090289 | Deutsche Lufthansa AG | Sir Michael David Bishop | British Midland PLC
20090290 | Texas Health Resources | Community Health Systems, Inc. | TTHR Limited Partnership
20090291 | Valero Energy Corporation | VeraSun Energy Corporation | VeraSun Aurora Corporation; VeraSun Charles City, LLC; VeraSun Fort Dodge, LLC; VeraSun Hartley, LLC; VeraSun Marketing, LLC; VeraSun Reynolds, LLC; VeraSun Welcome, LLC
Transactions Granted Early Termination—02/24/2009
20090292 | Bank of America Corporation | Kern Schools Federal Credit Union | FIA Card Services, N.A.
Transactions Granted Early Termination—02/25/2009
20090294 | General Electric Company | ATP Oil & Gas Corporation | ATP Infrastructure Partners, L.P.
Transactions Granted Early Termination—02/27/2009
20090306 | University of Southern California | Tenet Healthcare Corporation | Tenet HealthSystem Norris, Inc.; USC University Hospital, Inc.
Transactions Granted Early Termination—03/02/2009
20090143 | Intercontinental Exchange, Inc. | The Clearing Corporation | The Clearing Corporation
Transactions Granted Early Termination—03/03/2009
20090287 | Novartis Pharma AG | Portola Pharmaceuticals, Inc. | Portola Pharmaceuticals, Inc.
20090307 | Baker Brothers Life Sciences, L.P. | Seattle Genetics, Inc. | Seattle Genetics, Inc.
Transactions Granted Early Termination—03/09/2009
20090317 | DCP Midstream Partners, LP | ConocoPhillips | DCP East Texas Holdings, LLC
20090318 | DCP Midstream Partners, LP | Spectra Energy Corp. | DCP East Texas Holdings, LLC
20090322 | Roger Penske | General Electric Company | Penske Truck Leasing Co., L.P.
Transactions Granted Early Termination—03/11/2009
20090321 | Marsh & McLennan Companies, Inc. | Callan Associates Inc. | Callan Associates Inc.
Transactions Granted Early Termination—03/13/2009
20090263 | William Goldring | Constellation Brands, Inc. | Barton Brands of California, Inc.; Barton Distillers Import Corp.; Constellation Spirits Inc.
20090327 | Mascolo Brothers Limited | Toni & Guy Holdings, Inc. | Toni & Guy Holdings, Inc.
20090333 | Fidelity National Financial, Inc. | Wind Point Partners V, L.P. | VI Acquisition Corp.; VICORP Restaurants, Inc.
20090336 | Newport Global Opportunities Fund L.P | Wind Point Partners V, L.P. | VI Acquisition Corp.; VICORP Restaurants, Inc.
Transactions Granted Early Termination—03/16/2009
20090311 | Fairholme Funds, Inc. | The St. Joe Company | The St. Joe Company.
20090313 | Amphenol Corporation | General Electric Company | Times Microwave Systems, Inc.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. E9-7551 Filed 4-6-09; 8:45 am]

BILLING CODE 6750-01-M